SECURITIES AND EXCHANGE COMMISSION

[Release No. 34-44159; File No. SR-Amex-2001-21]

Self-Regulatory Organizations; Notice of Filing and Immediate Effectiveness of Proposed Rule Change by the American Stock Exchange LLC Relating to Revisions to the Exchange's Qualifying Examination

April 6, 2001.

Pursuant to Section 19(b)(1) of the Securities Exchange Act of 1934 (“Act”),¹ notice is hereby given that on April 4, 2001, the American Stock Exchange LLC (“Amex” or “Exchange”) filed with the Securities and Exchange Commission (“Commission”) the proposed rule change as described in Items I, II, and III below, which Items have been prepared by the Amex.² The Commission is publishing this notice to solicit comments on the proposed rule change from interested persons.

¹ 15 U.S.C. 78s(b)(1).

² The proposal was originally submitted on March 29, 2001. The Amex filed Amendment No. 1, which made several technical changes to the proposal. See Letter from Michael J. Ryan, Jr., Executive Vice President and General Counsel, Amex, to Katherine A. England, Esq., Assistant Director, Division of Market Regulation, Commission (April 4, 2001).

I. Self-Regulatory Organization's Statement of the Terms of Substance of the Proposed Rule Change

The Amex proposes to combine its two current membership examinations—equities and options—into one floor member examination covering all areas.

II. Self-Regulatory Organization's Statement of the Purpose of, and Statutory Basis for, the Proposed Rule Change

In its filing with the Commission, the Amex included statements concerning the purpose of and basis for the proposed rule change and discussed any comments it received on the proposed rule change. The text of these statements may be examined at the places specified in Item IV below. The Amex has prepared summaries, set forth in sections A, B, and C below, of the most significant aspects of such statements.

A. Self-Regulatory Organization's Statement of the Purpose of, and Statutory Basis for, the Proposed Rule Change

(1) Purpose

The Exchange proposes to discontinue using its “Qualification Examination for Regular Members” (equities exam) and “Put and call Stock Option Examination” (options exam) and combine these two exams into a comprehensive, four-hour floor member examination designed to test applicants on all three Exchange product lines—equities, options and exchange—traded funds. In the near future, the floor member examination will be assigned a series number by the National Association of Securities Dealers, Inc. (NASD), since the Amex Board has approved, and the Exchange is proposing to adopt, subject to SEC approval, new filing procedures for Forms U-4 and U-5 using the NASD's Web Central Registration Depository (“CRD”) System. A separate proposed rule filing will be submitted to the Commission shortly on the Exchange's proposed use of the NASD's CRD System.

Under Amex's current options and equities examinations, applicants for Exchange membership have a total of three (3) hours to respond to 157 questions (100 equity questions and 57 options questions). The proposed floor member examination will consist of 200 questions and applicants will be allowed four (4) hours to complete the exam. The questions will test all three Exchange product lines—equities, options and exchange-traded funds. No two examinations will be alike. A computer will pre-select from among 242 approved questions, and each applicant will take a different version of the exam. The examination will continue to be given once a month and the passing grade will be 70% or 140 correct answers. The combination of the Exchange's equities and options examinations into the proposed floor member examination should result in greater industry-wide consistency and efficiency in the administration of the Exchange's examination process.

(2) Statutory Basis

The proposed rule change is consistent with Section 6(b) ³ of the Act in general and furthers the objectives of Sections 6(b)(5) ⁴ and 6(c)(3)(A) ⁵ of the Act in particular in that it is designed to examine and verify the qualifications of an applicant for Amex membership. In addition, the proposed rule change serves to protect investors and the public interest by helping to assure member competence.

³ 15 U.S.C. 78f(b).

⁴ 15 U.S.C. 78f(b)(5).

⁵ 15 U.S.C. 78f(c)(3)(A).

B. Self-Regulatory Organization's Statement on Burden on Competition

The Exchange does not believe that the proposed rule change will impose any burden on competition.

C. Self-Regulatory Organization's Statement on Comments on the Proposed Rule Change Received From Members, Participants or Others

No written comments were solicited or received with respect to the proposed rule change.

III. Date of Effectiveness of the Proposed Rule Change and Timing for Commission Action

The foregoing rule change has become effective pursuant to Section 19(b)(3)(A)(i) of the Act ⁶ and subparagraph (f)(1) of Rule 19b-4 ⁷ thereunder because it constitutes a stated policy, practice, or interpretation with respect to the meaning, administration or enforcement of an existing rule. At any time within 60 days of the filing of such proposed rule change, the Commission may summarily abrogate such rule change if it appears to the Commission that such action is necessary or appropriate in the public interest, for the protection of investors, or otherwise in furtherance of the purposes of the Act.

⁶ 15 U.S.C. 78s(b)(3)(A)(i).

⁷ 17 CFR 240.19b-4(f)(1).

IV. Solicitation of Comments

Interested persons are invited to submit written data, views and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the Amex. All submissions should refer to File No. SR-Amex-2001-21 and should be submitted by May 8, 2001.

For the Commission, by the Division of Market Regulation, pursuant to delegated authority.⁸
⁸ 17 CFR 200.30-3(a)(12).
Margaret H. McFarland,
Deputy Secretary.

[FR Doc. 01-9429 Filed 4-16-01; 8:45 am]

BILLING CODE 8010-01-M